DEPARTMENT OF HEALTH AND HUMAN SERVICES

Administration for Children and Families

Proposed Information Collection Activity; Comment Request

Title: Evaluation of Employment Coaching for TANF and Other Low-Income Populations.

OMB No.: New Collection.

Description: The Administration for Children and Families (ACF) is proposing a data collection activity as part of the Evaluation of Employment Coaching for TANF and Other Low-Income Populations. This study will provide an opportunity to learn more about the potential of coaching to help clients achieve self-sufficiency and other desired employment-related outcomes. It will take place over five years in up to three employment programs. These programs may be Temporary Assistance for Needy Families (TANF) agencies or other public or private employment programs that serve low-income individuals. Selected sites will include a robust coaching component and have the capacity to conduct a rigorous impact evaluation, among other criteria. This study will provide information on whether coaching helps people obtain and retain jobs, advance in their careers, move toward self-sufficiency, and improve their overall well-being. To meet these objectives, this study will include an impact and implementation study.

The impact study will involve participants being randomly assigned to either a “program group,” who will be paired with a coach, or to a “control group,” who will not be paired with a coach. The effectiveness of the coaching will be determined by differences between members of the program and control groups in outcomes such as obtaining and retaining employment, earnings, measures of self-sufficiency, and measures of self-regulation.

The implementation study will document coaching practices, describe lessons learned from implementing coaching, and enhance interpretation of the impact study findings.

The proposed information collection activities are: (1) Baseline data collection: Collection of characteristics data on all study participants as they enroll in the study. Data will be entered into the Random Assignment, Participant Tracking Enrollment, and Reporting (RAPTER) system; (2) First follow-up survey: Collection of outcome data for a subset of study participants about 9 months after random assignment; (3) Semi-structured staff interviews: Collection of qualitative data on the design and implementation of the program; (4) Staff survey: Collection of information on staff members' professional backgrounds, training, coaching practices, and attitudes; (5) In-depth participant interviews: Collection of detailed information about the participants' backgrounds and experiences with coaching; (6) Staff reports of program service receipt: Collection of data on coaching and other program services received by study participants and entered into RAPTER; and (7) Video recordings of coaching sessions: Collection of data on the interaction between the coaches and participants.

A second follow-up survey will be administered approximately 21 months after random assignment. This data collection activity will be included under a separate OMB submission.

Respondents: Program staff and individuals enrolled in the Evaluation of Employment Coaching for TANF and Other Low-Income Populations. Program staff may include coaches, case managers, workshop instructors, job developers, supervisors, and managers. All participants will be able to opt out of participating in the data collection activities.

Annual Burden Estimates
Instrument | Total number of respondents | Annual number of respondents | Number of responses per respondent | Average burden hours per response | Annual burden hours
Baseline data collection—study participants | 6,000 | 2,000 | 1 | 0.33 | 660
Baseline data collection—staff | 60 | 20 | 100 | 0.33 | 660
First follow-up survey | 2,400 | 800 | 1 | 1 | 800
Semi-structured staff interviews | 66 | 22 | 1 | 1.5 | 33
Staff survey | 48 | 16 | 1 | 0.75 | 12
In-depth participant interviews | 24 | 8 | 1 | 2.5 | 20
Staff reports of program service receipt | 30 | 10 | 5,200 | 0.03 | 1,560
Video recordings of coaching sessions | 27 | 9 | 10 | 0.10 | 9

Estimated Total Annual Burden Hours: 3,754.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2017-13288 Filed 6-23-17; 8:45 am]

BILLING CODE 4184-09-P